DEPARTMENT OF VETERANS AFFAIRS

Enhanced-Use Lease Development of Property at the Department of Veterans Affairs Medical Center, Butler, PA

AGENCY: Department of Veterans Affairs.

ACTION: Notice of designation and intent to execute.

SUMMARY: The Secretary of the Department of Veterans Affairs (VA) intends to execute 1.25 acres of land of the Department of Veterans Affairs Medical Center, Butler, Pennsylvania, for an enhanced-use leading development. The Department intends to enter into a 50-year lease of rental property with the Butler Department of Human Services, selected lessee/developer who will finance, design, develop, maintain and manager a mental health facility, all at no cost to VA.

FOR FURTHER INFORMATION CONTACT: Vanessa Chambers, Capital Asset Management and Planning Service (182C), Department of Veterans Affairs, 810 Vermont Avenue, NW., Washington, DC 20420, (202) 565-6554.

SUPPLEMENTARY INFORMATION: 38 U.S.C. 8161 et seq. specifically provided that the Secretary may enter into an enhanced-use lease if he determines that at least part of the use of property under the lease will be to provide appropriate space for an activity contributing to the mission of the Department; the lease will not be inconsistent with and will not adversely affect the mission of the Department; and the lease will enhance the property or result in improved services to veterans. This project meets these requirements.

Approved: April 30, 2003.
Anthony J. Principi,
Secretary of Veterans Affairs.

[FR Doc. 03-11489 Filed 5-8-03; 8:45 am]

BILLING CODE 8320-01-M